DEPARTMENT OF DEFENSE

Office of the Secretary

32 CFR Part 104

[Docket ID: DOD-2019-OS-0132]

RIN 0790-AK93

Civilian Employment and Reemployment Rights for Service Members, Former Service Members and Applicants of the Uniformed Services

AGENCY: Under Secretary of Defense for Personnel and Readiness, Department of Defense (DoD).

ACTION: Final rule.

SUMMARY: This final rule removes the DoD part that contains its responsibilities under the Uniformed Services Employment and Reemployment Rights Act (USERRA). The part duplicates DoD's internal policy assigning DoD responsibilities and providing internal procedures for informing Service members, former Service Members, and individuals who apply for uniformed service of their civilian employment and reemployment rights, benefits, and obligations. This internal policy does not require codification, therefore, DoD will remove this part and publish notification in the Federal Register informing the public of administrative information concerning a request for pertinent information regarding periods of uniformed service.

DATES: This rule is effective on June 5, 2020.

FOR FURTHER INFORMATION CONTACT: Colette Ching, Lt Col, USAF, (571) 372-0671 or colette.a.ching.mil@mail.mil.

SUPPLEMENTARY INFORMATION: It has been determined that publication of this CFR part removal for public comment is impracticable, unnecessary, and contrary to public interest since it is based on removing DoD internal policies and procedures that are publicly available on a Departmental website. A copy of the current issuance, DoD Instruction 1205.12, “Civilian Employment and Reemployment Rights for Service Members, Former Service Members and Applicants of the Uniformed Services,” which was most recently updated on May 20, 2016, may be obtained at the following web address: https://www.esd.whs.mil/Portals/54/Documents/DD/issuances/dodi/120512p.pdf?ver=2019-03-11-081728-330. Additional information relating to USERRA is available at https://www.esgr.mil/.

Removal of this part does not reduce burden or costs to the public as it will not change DoD responsibilities and procedures for providing USERRA-related information. This rule is not significant under Executive Order (E.O.) 12866, “Regulatory Planning and Review.” Therefore, E.O. 13771, “Reducing Regulation and Controlling Regulatory Costs,” does not apply. This removal supports a recommendation of the DoD Regulatory Reform Task Force.

List of Subjects in 32 CFR Part 104

Government employees, Military personnel.

PART 104—[REMOVED]

Accordingly, by the authority of 5 U.S.C. 301, 32 CFR part 104 is removed.

Dated: May 19, 2020.
Aaron T. Siegel,
Alternate OSD Federal Register Liaison Officer, Department of Defense.

[FR Doc. 2020-11183 Filed 6-4-20; 8:45 am]

BILLING CODE 5001-06-P